DEPARTMENT OF COMMERCE

National Oceanic and Atmospheric Administration

RIN 0648-XA292

Permit, Amendment: Marine Mammals; File No. 16087

AGENCY: National Marine Fisheries Service (NMFS), National Oceanic and Atmospheric Administration (NOAA), Commerce.

ACTION: Notice; issuance of permit amendment.

SUMMARY: Notice is hereby given that an amendment to Permit No. 16087-01 has been issued to NMFS National Marine Mammal Laboratory, Seattle, WA to conduct research on pinnipeds.

ADDRESSES: The permit and related documents are available for review upon written request or by appointment in the Permits and Conservation Division, Office of Protected Resources, NMFS, 1315 East-West Highway, Room 13705, Silver Spring, MD 20910; telephone: (301) 427-8401; fax: (301) 713-0376.

FOR FURTHER INFORMATION CONTACT: Amy Sloan or Courtney Smith, (301) 427-8401.

SUPPLEMENTARY INFORMATION: On May 2, 2014, notice was published in the Federal Register (79 FR 25113) that a request for a permit to conduct research on pinnipeds had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16087-02 authorizes the permit holder to take marine mammals in California, Oregon, and Washington to investigate population status, health, demographic parameters, life history and foraging ecology of California sea lions (Zalophus californianus), Pacific harbor seals (Phoca vitulina), northern elephant seals (Mirounga angustrirostris), and Guadalupe fur seals (Arctocephalus townsendi). Research procedures involve capture, administering drugs, anesthesia, attaching scientific instruments, marking, measuring, restraint, tissue sampling, ultrasound, weighing, incidental harassment, euthanasia, and unintentional mortalities. The amendment modified annual takes and sample collection methods for California sea lions, Pacific harbor seals, and northern elephant seals; and added census, tagging and monitoring of threatened Guadalupe fur seal populations. The permit expires on June 30, 2019.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: October 10, 2014.
Julia Harrison,
Chief, Permits and Conservation Division, Office of Protected Resources, National Marine Fisheries Service.

[FR Doc. 2014-25578 Filed 10-27-14; 8:45 am]

BILLING CODE 3510-22-P